DEFENSE NUCLEAR FACILITIES SAFETY BOARD

Senior Executive Service Performance Review Board

AGENCY: Defense Nuclear Facilities Safety Board.

ACTION: Notice of members of Senior Executive Service Performance Review Board.

SUMMARY: This notice announces the membership of the Defense Nuclear Facilities Safety Board (DNFSB) Senior Executive Service (SES) Performance Review Board (PRB).

DATES: These appointments were effective on October 1, 2025.

ADDRESSES: Send comments concerning this notice to: Defense Nuclear Facilities Safety Board, 625 Indiana Avenue NW, Suite 700, Washington, DC 20004-2001.

FOR FURTHER INFORMATION CONTACT: Candice Starks by telephone at (202) 360-9527, or by email at Candice.Starks@dnfsb.gov.

SUPPLEMENTARY INFORMATION: 5 U.S.C. 4314(c)(1) through (5) requires each agency to establish, in accordance with regulations prescribed by the Office of Personnel Management, one or more performance review boards. The PRB shall review and evaluate the initial summary rating of the senior executives' performance, the executives' responses, and the higher-level officials' comments on the initial summary rating. In addition, the PRB will recommend executive performance bonuses and pay increases.

The DNFSB is a small, independent Federal agency; therefore, some members of the DNFSB SES Performance Review Board listed in this notice are drawn from the SES ranks of other agencies.

On October 1, 2025, the following members were appointed to the PRB:

Marguerite C. Garrison, Deputy Inspector General for Administrative Investigations, U.S. Department of Defense, Office of the Inspector General

Theresa Perolini, Assistant Inspector General for Enterprise and External Affairs, U.S. Department of Education, Office of Inspector General

Troy M. Meyer, Deputy Inspector General for Overseas Contingency Operations, U.S. Department of Defense, Office of the Inspector General

Njema Frazier, Associate Technical Director—Nuclear Weapons Program, Defense Nuclear Safety Facilities Board

Omar Lopez-Santiago, Associate Technical Director—Nuclear Materials Processing and Stabilization, Defense Nuclear Safety Facilities Board

James Biggins, Deputy Executive Director for Risk and Strategy, Defense Nuclear Safety Facilities Board

These appointments were approved by the former Acting Chairman, Thomas Summers, who has since departed the DNFSB following the conclusion of his term of office. On November 6, 2025, Mary Buhler, the Executive Director of Operations, approved a revision to the PRB membership in light of the unavailability of individuals due to the government shutdown. Notice of those appointments was published in the Federal Register on November 10, 2025.

Authority: 5 U.S.C. 4314.

Dated: November 7, 2025.
Eric Fox,
Federal Register Liaison, Associate General Counsel.

[FR Doc. 2025-19847 Filed 11-10-25; 8:45 am]

BILLING CODE 3670-01-P